DEPARTMENT OF TRANSPORTATION

Federal Aviation Administration

14 CFR Part 39

[Docket No. 2001-NM-133-AD; Amendment 39-13532; AD 2004-06-06]

RIN 2120-AA64

Airworthiness Directives; McDonnell Douglas Model DC-8-70 and -70F Series Airplanes

AGENCY: Federal Aviation Administration, DOT.

ACTION: Final rule.

SUMMARY: This amendment adopts a new airworthiness directive (AD), applicable to certain McDonnell Douglas Model DC-8-70 and -70F series airplanes, that requires repetitive inspections for cracking of the lower cargo doorjamb corners, and corrective action if necessary. For certain airplanes, this AD provides for optional terminating action for certain repetitive inspections. For certain other airplanes, this AD requires modification of the lower cargo doorjamb corners. This action is necessary to detect and correct cracking in the lower cargo doorjamb corners, which could result in rapid decompression of the fuselage and consequent reduced structural integrity of the airplane. This action is intended to address the identified unsafe condition.

DATES: Effective April 29, 2004.

The incorporation by reference of a certain publication listed in the regulations is approved by the Director of the Federal Register as of April 29, 2004.

ADDRESSES: The service information referenced in this AD may be obtained from Boeing Commercial Airplanes, Long Beach Division, 3855 Lakewood Boulevard, Long Beach, California 90846, Attention: Data and Service Management, Dept. C1-L5A (D800-0024). This information may be examined at the Federal Aviation Administration (FAA), Transport Airplane Directorate, Rules Docket, 1601 Lind Avenue, SW., Renton, Washington; or at the FAA, Los Angeles Aircraft Certification Office, 3960 Paramount Boulevard, Lakewood, California; or at the Office of the Federal Register, 800 North Capitol Street, NW., suite 700, Washington, DC.

FOR FURTHER INFORMATION CONTACT: Jon Mowery, Aerospace Engineer, Airframe Branch, ANM-120L, FAA, Los Angeles Aircraft Certification Office, 3960 Paramount Boulevard, Lakewood, California 90712-4137; telephone (562) 627-5322; fax (562) 627-5210.

SUPPLEMENTARY INFORMATION: A proposal to amend part 39 of the Federal Aviation Regulations (14 CFR part 39) to include an airworthiness directive (AD) that is applicable to certain McDonnell Douglas Model DC-8-70 and -70F series airplanes was published in the Federal Register on November 17, 2003 (68 FR 64827). That action proposed to require repetitive inspections for cracking of the lower cargo doorjamb corners, and corrective action if necessary. For certain airplanes, that action proposed to provide for optional terminating action for certain repetitive inspections. For certain other airplanes, that action proposed to require modification of the lower cargo doorjamb corners.

Comments

Interested persons have been afforded an opportunity to participate in the making of this amendment. No comments were submitted in response to the proposal or the FAA's determination of the cost to the public.

Conclusion

The FAA has determined that air safety and the public interest require the adoption of the rule as proposed.

Cost Impact

There are approximately 264 airplanes of the affected design in the worldwide fleet. The FAA estimates that 244 airplanes of U.S. registry will be affected by this AD.

The pre-modification inspections, if required, will take approximately 24 work hours per airplane at an average labor rate of $65 per work hour. Based on these figures, the cost impact of these actions required by this AD on U.S. operators is estimated to be $1,560 per airplane, per inspection cycle.

The modification, if accomplished, will take approximately 520 work hours per airplane, at an average labor rate of $65 per work hour. The parts will cost approximately $25,000. Based on these figures, the cost impact of this action on U.S. operators is estimated to be $58,800 per airplane.

The post-modification inspections will take approximately 40 work hours per airplane, at an average labor rate of $65 per work hour. Based on these figures, the cost impact of these actions on U.S. operators is estimated to be $634,400, or $2,600 per airplane, per inspection cycle.

The cost impact figures discussed above are based on assumptions that no operator has yet accomplished any of the requirements of this AD action, and that no operator would accomplish those actions in the future if this AD were not adopted. The cost impact figures discussed in AD rulemaking actions represent only the time necessary to perform the specific actions actually required by the AD. These figures typically do not include incidental costs, such as the time required to gain access and close up, planning time, or time necessitated by other administrative actions.

Regulatory Impact

The regulations adopted herein will not have a substantial direct effect on the States, on the relationship between the national Government and the States, or on the distribution of power and responsibilities among the various levels of government. Therefore, it is determined that this final rule does not have federalism implications under Executive Order 13132.

For the reasons discussed above, I certify that this action (1) is not a “significant regulatory action” under Executive Order 12866; (2) is not a “significant rule” under DOT Regulatory Policies and Procedures (44 FR 11034, February 26, 1979); and (3) will not have a significant economic impact, positive or negative, on a substantial number of small entities under the criteria of the Regulatory Flexibility Act. A final evaluation has been prepared for this action and it is contained in the Rules Docket. A copy of it may be obtained from the Rules Docket at the location provided under the caption ADDRESSES.

List of Subjects in 14 CFR Part 39

Air transportation, Aircraft, Aviation safety, Incorporation by reference, Safety.

Adoption of the Amendment

Accordingly, pursuant to the authority delegated to me by the Administrator, the Federal Aviation Administration amends part 39 of the Federal Aviation Regulations (14 CFR part 39) as follows:

PART 39—AIRWORTHINESS DIRECTIVES

1. The authority citation for part 39 continues to read as follows:

Authority: 49 U.S.C. 106(g), 40113, 44701.

§ 39.13 [Amended]

2. Section 39.13 is amended by adding the following new airworthiness directive:

2004-06-06 McDonnell Douglas: Amendment 39-13532. Docket 2001-NM-133-AD.

Applicability: Model DC-8-70 and -70F series airplanes, certificated in any category, as listed in McDonnell Douglas Service Bulletin DC8-53-078, Revision 01, dated January 25, 2001.

Compliance: Required as indicated, unless accomplished previously.

To detect and correct cracking in the lower cargo doorjamb corners, which could result in rapid decompression of the fuselage and consequent reduced structural integrity of the airplane, accomplish the following:

Note 1: This AD is related to AD 93-01-15, amendment 39-8469, and will affect Principal Structural Elements (PSEs) 53.08.042 and 53.08.043 of the DC-8 Supplemental Inspection Document (SID), Report L26-011, Volume II, Revision 7, dated April 1993.

Group 1 Airplanes: Inspections and Optional Terminating Action

(a) For airplanes identified as Group 1 in McDonnell Douglas Service Bulletin DC8-53-078, Revision 01, dated January 25, 2001:

(1) Within 2,000 landings or 3 years after the effective date of this AD, whichever occurs first, perform applicable inspections for cracking of the lower cargo doorjamb corners, in accordance with the Accomplishment Instructions of the service bulletin.

(i) If no crack is detected during any inspection required by this paragraph: Repeat the inspections within the intervals specified in paragraph 1.E. of the service bulletin.

(ii) If any crack is detected during any inspection required by this paragraph: Repair before further flight in accordance with the Accomplishment Instructions of the service bulletin.

(2) Modification of the lower cargo doorjamb corners in accordance with the Accomplishment Instructions of the service bulletin terminates the repetitive inspection requirement of paragraph (a)(1)(i) of this AD.

(3) For airplanes repaired or modified in accordance with paragraph (a)(1)(ii) or (a)(2) of this AD: Within 17,000 landings after the repair or modification, perform an eddy current inspection for cracks of the doorjamb corners, in accordance with the Accomplishment Instructions of the service bulletin (Drawing SN08530001). Repeat the inspection at intervals not to exceed 4,400 landings.

Group 2 Airplanes: Modification

(b) For airplanes identified as Group 2 in McDonnell Douglas Service Bulletin DC8-53-078, Revision 01, dated January 25, 2001:

(1) Within 2,000 landings or 3 years after the effective date of this AD, whichever occurs first, modify the lower cargo doorjamb corners in accordance with the Accomplishment Instructions of the service bulletin.

(2) Within 17,000 landings after the modification required by paragraph (b)(1) of this AD, perform applicable inspections for cracking of the doorjamb corners, in accordance with the Accomplishment Instructions of the service bulletin. Repeat the inspections at intervals not to exceed 4,400 landings.

Group 3 and Group 4 Airplanes: Inspections

(c) For airplanes identified as Group 3 and Group 4 in McDonnell Douglas Service Bulletin DC8-53-078, Revision 01, dated January 25, 2001: Within 17,000 landings following accomplishment of the modification specified in the service bulletin, perform applicable inspections for cracking of the lower cargo doorjamb corners, in accordance with the Accomplishment Instructions of the service bulletin. Repeat the inspections at intervals not to exceed 4,400 landings.

All Airplanes: Repair Following Post-Modification Inspections

(d) If any cracking is detected during any inspection required by paragraph (a)(3), (b)(2), or (c) of this AD: Repair before further flight in accordance with a method approved by the Manager, Los Angeles Aircraft Certification Office (ACO), FAA; or per data meeting the type certification basis of the airplane approved by a Boeing Company Designated Engineering Representative (DER) who has been authorized by the Manager, Los Angeles ACO, to make such findings. For a repair method to be approved, the approval must specifically refer to this AD.

Credit for Prior Accomplishment

(e) Inspections done before the effective date of this AD in accordance with McDonnell Douglas Service Bulletin DC8-53-078, dated February 6, 1996, are acceptable for compliance with the applicable inspections required by this AD.

(f) Inspections and repairs specified in this AD of areas of PSEs 53.08.042 and 53.08.043 are acceptable for compliance with the applicable requirements of paragraphs (a), (b), and (c) of AD 93-01-15. The remaining areas of the affected PSEs must be inspected and repaired as applicable, in accordance with AD 93-01-15.

Report

(g) At the applicable time specified in paragraph (g)(1) or (g)(2) of this AD: Submit a report of the findings (both positive and negative) of each inspection required by this AD to the Manager, Los Angeles ACO. Under the provisions of the Paperwork Reduction Act of 1980 (44 U.S.C. 3501 et seq.), the Office of Management and Budget (OMB) has approved the information collection requirements contained in this AD and has assigned OMB Control Number 2120-0056.

(1) For an inspection done after the effective date of this AD: Submit the report within 10 days after the inspection.

(2) For an inspection done before the effective date of this AD: Submit the report within 10 days after the effective date of this AD.

Alternative Methods of Compliance

(h)(1) In accordance with 14 CFR 39.19, the Manager, Los Angeles ACO, FAA, is authorized to approve alternative methods of compliance (AMOCs) for this AD.

(2) An AMOC that provides an acceptable level of safety may be used for any repair required by this AD, if it is approved by a Boeing DER who has been authorized by the Manager, Los Angeles ACO, to make such findings.

Incorporation by Reference

(i) Unless otherwise specified in this AD, the actions shall be done in accordance with McDonnell Douglas Service Bulletin DC8-53-078, Revision 01, dated January 25, 2001. This incorporation by reference was approved by the Director of the Federal Register in accordance with 5 U.S.C. 552(a) and 1 CFR part 51. Copies may be obtained from Boeing Commercial Airplanes, Long Beach Division, 3855 Lakewood Boulevard, Long Beach, California 90846, Attention: Data and Service Management, Dept. C1-L5A (D800-0024). Copies may be inspected at the FAA, Transport Airplane Directorate, 1601 Lind Avenue, SW., Renton, Washington; or at the FAA, Los Angeles Aircraft Certification Office, 3960 Paramount Boulevard, Lakewood, California; or at the Office of the Federal Register, 800 North Capitol Street, NW., suite 700, Washington, DC.

Effective Date

(j) This amendment becomes effective on April 29, 2004.

Issued in Renton, Washington, on March 12, 2004.
Ali Bahrami,
Acting Manager, Transport Airplane Directorate, Aircraft Certification Service.

[FR Doc. 04-6500 Filed 3-24-04; 8:45 am]

BILLING CODE 4910-13-P